DEPARTMENT OF HEALTH AND HUMAN SERVICES

Centers for Disease Control and Prevention

National Institute for Occupational Safety and Health (NIOSH); Advisory Board on Radiation and Worker Health (ABRWH)

Correction: This notice was published in the Federal Register on July 24, 2006, Volume 71, Number 141, page 41806.

A public comment period has been added during the discussion of the Conflicts of Interest policies. To aid in the discussion, please see the Office of Compensation Analysis and Support Web site at: http://www.cdc.gov/niosh/ocas/ocasdose.html#drcoi.

For Further Information Contact: Dr. Lewis V. Wade, Executive Secretary, NIOSH, CDC, 4676 Columbia Parkway, Cincinnati, Ohio 45226, telephone 513.533.6825, fax 513.533.6826.

The Director, Management Analysis and Services Office, has been delegated the authority to sign Federal Register notices pertaining to announcements of meetings and other committee management activities, for both CDC and the Agency for Toxic Substances and Disease Registry.

Dated: August 1, 2006.
Alvin Hall,
Director, Management Analysis and Services Office, Centers for Disease Control and Prevention.

[FR Doc. E6-12735 Filed 8-4-06; 8:45 am]

BILLING CODE 4163-18-P